DEPARTMENT OF COMMERCE

National Oceanic and Atmospheric Administration

U.S. Integrated Ocean Observing System (IOOS®) Advisory Committee

AGENCY: National Ocean Service, National Oceanic and Atmospheric Administration (NOAA), Department of Commerce.

ACTION: Notice of open meeting.

SUMMARY: Notice is hereby given of a virtual meeting of the U. S. Integrated Ocean Observing System (IOOS®) Advisory Committee (Committee).

DATES: The meeting will be held on March 17, 18, and 19, 2021 from 1:00 p.m. to 5:00 p.m. EDT. These times and the agenda topics described below are subject to change. Refer to the web page listed below for the most up-to-date agenda and dial-in information.

ADDRESSES: The meeting will be held virtually. Refer to the U.S. IOOS Advisory Committee website at http://ioos.noaa.gov/community/u-s-ioos-advisory-committee/ for the most up-to-date information.

FOR FURTHER INFORMATION CONTACT: Krisa Arzayus, Designated Federal Official, U.S. IOOS Advisory Committee, U.S. IOOS Program, 1315 East-West Highway, Silver Spring, MD 20910; Phone 240-533-9455; Fax 301-713-3281; Email krisa.arzayus@noaa.gov or visit the U.S. IOOS Advisory Committee website at http://ioos.noaa.gov/community/u-s-ioos-advisory-committee/. To register for the meeting, contact Laura Gewain, laura.gewain@noaa.gov.

SUPPLEMENTARY INFORMATION: The Committee was established by the NOAA Administrator as directed by Section 12304 of the Integrated Coastal and Ocean Observation System Act, part of the Omnibus Public Land Management Act of 2009 (Pub. L. 111-11), and reauthorized under the Coordinated Ocean Observations and Research Act of 2020 (Pub. L. 116-271). The Committee advises the NOAA Administrator and the Interagency Ocean Observation Committee (IOOC) on matters related to the responsibilities and authorities set forth in section 12302 of the Integrated Coastal and Ocean Observation System Act of 2009 and other appropriate matters as the Under Secretary refers to the Committee for review and advice.

The Committee will provide advice on:

(A) Administration, operation, management, and maintenance of the System;

(B) expansion and periodic modernization and upgrade of technology components of the System;

(C) identification of end-user communities, their needs for information provided by the System, and the System's effectiveness in disseminating information to end-user communities and to the general public; and

(D) additional priorities, including—

(i) a national surface current mapping network designed to improve fine scale sea surface mapping using high frequency radar technology and other emerging technologies to address national priorities, including Coast Guard search and rescue operation planning and harmful algal bloom forecasting and detection that—

(I) is comprised of existing high frequency radar and other sea surface current mapping infrastructure operated by national programs and regional coastal observing systems;

(II) incorporates new high frequency radar assets or other fine scale sea surface mapping technology assets, and other assets needed to fill gaps in coverage on United States coastlines; and

(III) follows a deployment plan that prioritizes closing gaps in high frequency radar infrastructure in the United States, starting with areas demonstrating significant sea surface current data needs, especially in areas where additional data will improve Coast Guard search and rescue models;

(ii) fleet acquisition for unmanned maritime systems for deployment and data integration to fulfill the purposes of this subtitle;

(iii) an integrative survey program for application of unmanned maritime systems to the real-time or near real-time collection and transmission of sea floor, water column, and sea surface data on biology, chemistry, geology, physics, and hydrography;

(iv) remote sensing and data assimilation to develop new analytical methodologies to assimilate data from the System into hydrodynamic models;

(v) integrated, multi-State monitoring to assess sources, movement, and fate of sediments in coastal regions;

(vi) a multi-region marine sound monitoring system to be—

(I) planned in consultation with the Interagency Ocean Observation Committee, the National Oceanic and Atmospheric Administration, the Department of the Navy, and academic research institutions; and

(II) developed, installed, and operated in coordination with the National Oceanic and Atmospheric Administration, the Department of the Navy, and academic research institutions; and

(E) any other purpose identified by the Administrator or the Council.

The meeting will be open to public participation with a 10-minute public comment period on from 4:45pm to 5:00pm EDT each day of the meeting (check agenda on website to confirm time). The Committee expects that public statements presented at its meetings will not be repetitive of previously submitted verbal or written statements. In general, each individual or group making a verbal presentation will be limited to a total time of three (3) minutes. Written comments should be received by the Designated Federal Official by March 15, 2021, to provide sufficient time for Committee review. Written comments received after March 15, 2021, will be distributed to the Committee, but may not be reviewed prior to the meeting date. To submit written comments, please email your comments, your name as it appears on your driver's license, and the organization/company affiliation you represent to Krisa Arzayus, Krisa.Arzayus@noaa.gov and Laura Gewain, Laura.Gewain@noaa.gov.

Matters to be considered: The meeting will focus on updates from committee working groups on ongoing committee priorities, including the role of ocean observations in forecasting, strategy and vision for the System, partnerships for a successful System, and requirements for the System, in order to develop the next set of recommendations to NOAA and the IOOC. The latest version of the agenda will be posted at http://ioos.noaa.gov/community/u-s-ioos-advisory-committee/.

Special accomodations: These meetings are physically accessible to people with disabilities. Requests for sign language interpretation or other auxiliary aids should be directed to Krisa Arzayus, Designated Federal Official at Krisa.Arzayus@noaa.gov and Laura.Gewain@noaa.gov or 240-533-9455 by March 10, 2021.

Krisa M. Arzayus,
Deputy Director, U.S. Integrated Ocean Observing System Office, National Ocean Service.

[FR Doc. 2021-04495 Filed 3-3-21; 8:45 am]

BILLING CODE 3510-JE-P